FEDERAL RETIREMENT THRIFT INVESTMENT BOARD

Notice of Board Meeting

DATES: August 24, 2022 at 10:00 a.m.

ADDRESSES: Telephonic. Dial-in (listen only) information: Number: 1- 202-599-1426, Code: 272 550 417#; or via web: https://teams.microsoft.com/l/meetup-join/19%3ameeting_MzZlNTRlZDYtNzRhZS00ZjhlLThmNWItNmIwZmE2ZmVkNzRl%40thread.v2/0?context=%7b%22Tid%22%3a%223f6323b7-e3fd-4f35-b43d-1a7afae5910d%22%2c%22Oid%22%3a%227c8d802c-5559-41ed-9868-8bfad5d44af9%22%7d.

FOR FURTHER INFORMATION CONTACT: Kimberly Weaver, Director, Office of External Affairs, (202) 942-1640.

SUPPLEMENTARY INFORMATION:

Board Meeting Agenda

Open Session

1. Approval of the July 26, 2022 Board Meeting Minutes

2. Recordkeeper Annual Service Update: Accenture Federal Services (AFS)

3. Monthly Reports

(a) Participant Activity Report

(b) Investment Report

(c) Legislative Report

4. Quarterly Report

(d) Metrics

5. 2021 FISMA Results

6. CISO Update

7. FY 2023 Budget Review and Approval

Closed Session

8. Information covered under 5 U.S.C. 552b (c)(9)(B).

Authority: 5 U.S.C. 552b (e)(1).

Dated: August 11, 2022.
Dharmesh Vashee,
General Counsel, Federal Retirement Thrift Investment Board.

[FR Doc. 2022-17656 Filed 8-16-22; 8:45 am]

BILLING CODE P